FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201414.

Agreement Name: ONE/HMM WIN Slot Charter Agreement.

Parties: Ocean Network Express Pte. Ltd. and MM Co., Ltd.

Filing Party: Joshua Stein; Cozen O'Connor.

Synopsis: The Agreement authorizes ONE to charter space to HMM in the trade between the U.S. East and Gulf Coasts, and the Indian Subcontinent, the Mediterranean, and the Red Sea.

Proposed Effective Date: 12/20/2023.

Location: https://www2.fmc.gov/FMC.Agreements.Web/Public/AgreementHistory/84535.

Dated: December 22, 2023.
Carl Savoy,
Federal Register Alternate Liaison Officer.

[FR Doc. 2023-28642 Filed 12-27-23; 8:45 am]

BILLING CODE 6730-02-P